DEPARTMENT OF COMMERCE

National Oceanic and Atmospheric Administration

RIN 0648-XW44

Schedules for Atlantic Shark Identification Workshops and Protected Species Safe Handling, Release, and Identification Workshops; Correction

AGENCY: National Marine Fisheries Service (NMFS), National Oceanic and Atmospheric Administration (NOAA), Commerce.

ACTION: Notice of public workshops; correction.

SUMMARY: Due to the approach of Hurricane Earl, NMFS is cancelling the Atlantic Shark Identification workshop that was scheduled for September 2, 2010, in Wilmington, NC. This workshop was announced on May 28, 2010. NMFS has rescheduled the workshop for September 9, 2010, to be held at the same time and location, 9 a.m. to 5 p.m., Comfort Inn (UNC Wilmington), 151 South College Road, Wilmington, NC 28403.

DATES: The Atlantic Shark Identification Workshop scheduled for September 2, 2010, in Wilmington, NC, has been rescheduled for September 9, 2010. See SUPPLEMENTARY INFORMATION for further details.

ADDRESSES: The location of the rescheduled workshop has not changed. See SUPPLEMENTARY INFORMATION for further details.

FOR FURTHER INFORMATION CONTACT: Richard A. Pearson of the Highly Migratory Species Management Division at (727) 824-5399.

SUPPLEMENTARY INFORMATION:

Need for Correction

In the Federal Register of May 28, 2010, in FR Doc. 2010-12919, on page 29992, in the second column, correct the location of the third Atlantic Shark Identification workshop listed under the heading “Workshop Dates, Times, and Locations” to read:

Workshop Dates, Times, and Locations

3. September 9, 2010, from 9 a.m. - 5 p.m., Comfort Inn (UNC-Wilmington), 151 South College Road, Wilmington, NC 28403.

Background

This workshop is being rescheduled due to the approach of Hurricane Earl.

To register for a scheduled Atlantic Shark Identification Workshop, please contact Eric Sander at esander@peoplepc.com or at (386) 852-8588.

Registration Materials

To ensure that workshop certificates are linked to the correct permits, participants will need to bring specific items to the workshop:

Atlantic shark dealer permit holders must bring proof that the attendee is an owner or agent of the business (such as articles of incorporation), a copy of the applicable permit, and proof of identification.

Atlantic shark dealer proxies must bring documentation from the permitted dealer acknowledging that the proxy is attending the workshop on behalf of the permitted Atlantic shark dealer for a specific business location, a copy of the appropriate valid permit, and proof of identification.

Dated: September 2, 2010.
Carrie Selberg,
Acting Director, Office of Sustainable Fisheries, National Marine Fisheries Service.

[FR Doc. 2010-22355 Filed 9-2-10; 4:15 pm]

BILLING CODE 3510-22-S